DEPARTMENT OF TRANSPORTATION

Pipeline and Hazardous Materials Safety Administration

49 CFR Parts 192, 193, and 195

[Docket No. PHMSA-05-21253]

RIN 2137-AD68

Pipeline Safety: Update of Regulatory References to Technical Standards

AGENCY: Pipeline and Hazardous Materials Safety Administration (PHMSA), DOT.

ACTION: Notice of proposed rulemaking.

SUMMARY: This notice proposes to update the pipeline safety regulations to incorporate by reference all or parts of new editions of voluntary consensus technical standards to enable pipeline operators to utilize current technology, materials, and practices.

DATES: Comments on the subject of this proposed rule must be received on or before September 16, 2005.

ADDRESSES: Comments should reference Docket No. PHMSA-05-21253 and may be submitted in the following ways:

• DOT Web site: http://dms.dot.gov. Follow the instructions for submitting comments on the DOT electronic docket site.

• Fax: 1-202-493-2251.

• Mail: Docket Management System: U.S. Department of Transportation, 400 Seventh Street, SW., Nassif Building, Room PL-401, Washington, DC 20590-001.

• Hand Delivery: DOT Docket Management System; Room PL-401 on the plaza level of the Nassif Building, 400 Seventh Street, SW., Washington, DC between 9 a.m. and 5 p.m., Monday through Friday, except Federal holidays.

• E-Gov Web site: http://www.Regulations.gov. This site allows the public to enter comments on any Federal Register notice issued by any agency.

Instructions: You should identify the docket number PHMSA-05-21253 at the beginning of your comments. You should submit two copies of your comments, if you submit them by mail. If you wish to receive confirmation that PHMSA received your comments, you should include a self-addressed stamped postcard. Internet users may submit comments at http://www.regulations.gov and may access all comments received by DOT at http://dms.dot.gov.

Note: All comments will be posted without changes or edits to http://dms.dot.gov including any personal information provided. Please see below for Privacy Act Statement.

Privacy Act Statement: Anyone may search the electronic form of all comments received for any of our dockets. You may review DOT's complete Privacy Act Statement in the Federal Register published on April 11, 2000 (Volume 65, Number 70; Pages 19477-78) or you may visit http://dms.dot.gov.

FOR FURTHER INFORMATION CONTACT: Richard D. Huriaux, Director, Technical Standards at (202) 366-4565, by fax at (202) 366-4566, by e-mail at richard.huriaux@.dot.gov, or by mail at U.S. Department of Transportation, PHMSA/Office of Pipeline Safety, PHP-40, Room 2103, 400 Seventh Street, SW., Washington, DC 20590-0001. Copies of this document or other material in the docket can be reviewed by accessing the Docket Management System's home page at http://dms.dot.gov. General information on the pipeline safety program is available at the Office of Pipeline Safety Web site at http://ops.dot.gov.

SUPPLEMENTARY INFORMATION:

Background

This notice proposes to update the Federal pipeline safety regulations to all or parts of recent editions of the voluntary consensus technical standards that are currently incorporated by reference in the Federal pipeline safety regulations. It updates standards in 49 CFR part 192, “Transportation of Natural and Other Gas by Pipeline: Minimum Federal Safety Standards,” 49 CFR part 193, “Liquefied Natural Gas Facilities: Federal Safety Standards,” and 49 CFR part 195, “Transportation of Hazardous Liquids by Pipeline.” This update enables pipeline operators to utilize current technology, materials, and practices. The incorporation of the most recent editions of standards improves clarity, consistency and accuracy, and reduces unnecessary burdens on the regulated community.

Previous updates of the regulations to incorporate revised standards were issued on May 24, 1996 (61 FR 26121), June 6, 1996 (61 FR 2877), February 17, 1998 (63 FR 7721), and June 14, 2004 (69 FR 32886). PHMSA intends to issue periodic updates to ensure that the pipeline safety regulations reflect current practice and to improve compliance by the pipeline industry with safety standards.

Standards Incorporated by Reference

The National Technology Transfer and Advancement Act of 1995 (Pub. L. 104-113) directs Federal agencies to use voluntary consensus standards in lieu of government-written standards whenever possible. Voluntary consensus standards are standards developed or adopted by voluntary bodies that develop, establish, or coordinate technical standards using agreed-upon procedures.

PHMSA participates in more than 25 national voluntary consensus standards committees. PHMSA's policy is to adopt voluntary consensus standards when they are applicable to pipeline design, construction, maintenance, inspection, and repair. In recent years, PHMSA has adopted dozens of voluntary consensus standards into its gas pipeline, hazardous liquid pipeline, and liquefied natural gas (LNG) regulations.

PHMSA has reviewed the voluntary consensus standards proposed for incorporation in whole or in part in 49 CFR parts 192, 193, and 195. The organizations responsible for producing these standards often update or revise them to incorporate the most current technology.

Parts 192, 193, and 195 incorporate by reference all or parts of 60 standards and specifications developed and published by technical organizations, including the American Petroleum Institute, American Gas Association, American Society of Mechanical Engineers, American Society for Testing and Materials, Manufacturers Standardization Society of the Valve and Fittings Industry, National Fire Protection Association, Plastics Pipe Institute, and Pipeline Research Council International. The most recent editions of these documents represent a consensus on the best current practice and modern technology in the pipeline industry.

PHMSA proposes to adopt all or part of recent editions of 39 of the 60 standards referenced in the pipeline safety regulations.

New Editions of Standards

The following new editions of currently referenced standards are proposed for incorporation by reference (ibr) in Parts 192, 193, and 195. These new editions refine, correct, and clarify existing material in the standard, and generally do not introduce new topics. The list is organized by the standards-developing organization responsible for the standard. Each entry contains the title and a short description, along with what sections of the pipeline safety regulations reference the standard. In the interest of clarity, the regulatory language at the end of this document lists all standards incorporated by reference, including those updated standards described below.

American Gas Association (AGA)

• Purging Principles and Practices (3rd edition, 2001)

Replaces current ibr: 1975 edition

Referenced by 49 CFR 193.2513; 193.2517;193.2615

This new edition addresses principles and practices for purging pipelines of combustible gases. It provides new information for purging pipelines that was developed by the Gas Research Institute (GRI), now known at the Gas Technology Institute (GTI), and addresses improvements made in instruments for measurement of combustible gas mixtures. Chapters 1 through 4 cover the principles of gas purging. The remainder of the standard addresses the application of the principles to various situations.

American Petroleum Institute (API)

• API Specification 5L “Specification for Line Pipe” (43rd edition, 2004)

Replaces current ibr: 3rd edition, 2000

Referenced by 49 CFR 192.55(e); 192.113; Item I, Appendix B to part 192; 195.106(b)(1)(i); 195.106(e).

This specification provides standards for pipe suitable for use in conveying gas, water, and oil in both the oil and natural gas industries. This specification covers seamless and welded steel line pipe. It includes plain-end, threaded-end, and belled-end pipe, as well as through-the-flowline (TFL) pipe and pipe with ends prepared for use with special couplings.

• API Specification 5L1 “Recommended Practice for Railroad Transportation of Line Pipe” (6th edition, 2002)

Replaces current ibr: 4th edition, 1990

Referenced by 49 CFR 192.65(a)

The recommendations in this standard apply to the transportation on railcars of API Specification 5L steel pipe. It addresses allowable load stresses for pipe with diameter to thickness (D/t) ratios of 50 or more.

• API Specification 6D “Specification for Pipeline Valves” (Gate, Plug, Ball, and Check Valves) (22nd edition, 2002 including Supplement November 2004)

Replaces current ibr: 21st edition, 1994

Referenced by 49 CFR 192.145(a); 195.116(d)

This specification addresses technical requirements for most types of pipeline valves, and specifies standard valve types and categories. The document addresses requirements for materials, tests, marking, quality control, and shipping of valves.

• API Standard 620 “Design and Construction of Large, Welded, Low-Pressure Storage Tanks” (10th edition, 2002)

Replaces current ibr: 9th edition

Referenced by 49 CFR 195.132(b)(2); 195.205(b)(2); 195.264(b)(1); 195.264(e)(3); 195.307(b)

This standard addresses the design and construction of large, field-assembled storage tanks for the storage of petroleum and petroleum products. It addresses low-pressure, carbon-steel above ground storage tanks, including flat bottom tanks. Standards are provided for materials, design, fabrication, inspection, testing, marking, and pressure control devices.

• API 1130 “Computational Pipeline Monitoring” (2nd edition, 2002)

Replaces current ibr: 1st edition, 1995

Referenced by 49 CFR 195.134; 195.444

This publication focuses on the implementation and testing of computational pipeline monitoring (CPM) systems that use algorithms to detect anomalies in pipeline operations. CPM systems assist pipeline controllers in detecting and responding to leaks and other hydraulic anomalies.

• API Standard 2000 “Venting Atmospheric and Low-Pressure Storage Tanks” (5th edition, 1998)

Replaces current ibr: 4th edition, 1992

Referenced by 49 CFR 195.264(e)(2); 195.264(e)(3)

This standard addresses the technical requirements for ensuring that dangerous gases are properly vented from atmospheric and low-pressure hazardous liquid storage tanks.

• API Standard 2510 “Design and Construction of LPG Installations” (8th edition, 2004)

Replaces current ibr: 7th edition, 1995

Referenced by 49 CFR 195.132(b)(3); 195.205(b)(3); 195.264(b)(2); 195.264(e)(4); 195.307(e); 195.428(c); 195.432(c)

This standard sets minimum requirements for the design and construction of facilities to handle and store liquefied petroleum gas (LPG) at terminals, refineries, and tank farms. It addresses design of LPG vessels and tanks, siting requirements, construction and piping specifications, procedures for loading and unloading, and fire protection.

American Society of Civil Engineers (ASCE)

• SEI/ASCE 7-02 “Minimum Design Loads for Buildings and Other Structures” (2002 edition)

Replaces current ibr: 1995 edition

Referenced by 49 CFR 193.2067

This standard gives requirements for dead, live, soil, flood, wind, snow, rain, ice, and earthquake loads on buildings and other structures. The wind load section has been updated to reflect current information on wind engineering.

American Society for Testing and Materials (ASTM)

• ASTM A53/A53M-04a (2004) “Standard Specification for Pipe, Steel, Black and Hot-Dipped, Zinc-Coated, Welded and Seamless”

Replaces current ibr: 1999 edition

Referenced by 49 CFR 192.113; Item I, Appendix B to Part 192; 195.106(e)

This specification covers seamless and welded black and hot-dipped galvanized steel pipe in pipe sizes NPS ⅛ to 26, with nominal wall thickness as given in Table X2.2 and Table X2.3 of the standard.

• ASTM A106/A106M-04b (2004) “Standard Specification for Seamless Carbon Steel Pipe for High-Temperature Service”

Replaces current ibr: 1999 edition

Referenced by 49 CFR 192.113; Item I, Appendix B to part 192; 195.106(e)

This specification covers seamless carbon steel pipe for high-temperature service in pipe sizes ⅛ to 48, with nominal wall thickness as given in standard ASME B36.10M.

• ASTM A333/A333M-04a (2004) “Standard Specification for Seamless and Welded Steel Pipe for Low-Temperature Service”

Replaces current ibr: 1999 edition

Referenced by 49 CFR 192.113; Item I, Appendix B to part 192; 195.106(e)

This specification covers nominal wall thickness for welded carbon and alloy steel pipe intended for use at low temperatures. Several grades of ferritic steel are included as listed in Table 1 of the standard.

• ASTM A372/A372M-03 (2003) “Standard Specification for Carbon and Alloy Steel Forgings for Thin-Walled Pressure Vessels”

Replaces current ibr: 1999 edition

Referenced by 49 CFR 192.177(b)(1)

This specification covers relatively thin-walled forgings for pressure vessel use. Three types of carbon steel and six types of alloy steel are included. Provision is made for integrally forging the ends of vessel bodies made from seamless pipe or tubing.

• ASTM A381-96 (2001) “Standard Specification for Metal-Arc-Welded Steel Pipe for Use With High-Pressure Transmission Systems”

Replaces current ibr: 1996 edition

Referenced by 49 CFR 192.113; Item I, Appendix B to part 192; 195.106(e)

This specification covers straight seam, double-submerged-arc-welded steel pipe suitable for high-pressure service, 16 in. (406 mm) and larger in outside diameter, with wall thicknesses from 5/16 to 1½ in. (7.9 to 38 mm). The pipe is intended for fabrication of fittings and accessories for compressor or pump-station piping.

• ASTM A671-04 (2004) “Standard Specification for Electric-Fusion-Welded Steel Pipe for Atmospheric and Lower Temperatures”

Replaces current ibr: 1996 edition

Referenced by 49 CFR 192.113; Item I, Appendix B to part 192; 195.106(e)

This specification covers electric-fusion-welded steel pipe with filler metal added, fabricated from pressure vessel quality plate of several analyses and strength levels and suitable for high-pressure service at atmospheric and lower temperatures. The specification covers pipe 16 inches (406 mm) in outside diameter or larger and of ¼ inch (6.4 mm) wall thickness or greater.

• ASTM A672-96 (2001) “Standard Specification for Electric-Fusion-Welded Steel Pipe for High-Pressure Service at Moderate Temperatures”

Replaces current ibr: 1996 edition

Referenced by 49 CFR 192.113; Item I, Appendix B to part 192; 195.106(e)

This specification covers electric-fusion-welded steel pipe, fabricated from pressure-vessel quality plate of any of several analyses and strength levels and suitable for high-pressure service at moderate temperatures. The specification covers pipe 16 inches (406 mm) in outside diameter or larger with wall thicknesses up to 3 inches (75 mm).

• ASTM A691-98 (2002) “Standard Specification for Carbon and Alloy Steel Pipe, Electric-Fusion-Welded for High-Pressure Service at High Temperatures”

Replaces current ibr: 1998 edition

Referenced by 49 CFR 192.113; Item I, Appendix B to part 192; 195.106(e)

This specification covers electric-fusion-welded carbon and alloy steel pipe fabricated from pressure-vessel-quality plate of several analyses and strength levels and suitable for high-pressure service at high temperatures. The specification covers pipe 16 inches (405 mm) in outside diameter and larger with wall thicknesses up to 3 inches (75 mm).

• ASTM D638-03 (2003) “Standard Test Method for Tensile Properties of Plastics”

Replaces current ibr: 1999 edition

Referenced by 49 CFR 192.283(a)(3); 192.283(b)(1)

This test method covers the determination of the tensile properties of unreinforced and reinforced plastics in the form of standard dumbbell-shaped test specimens when tested under defined conditions of pretreatment, temperature, humidity, and testing machine speed. This test method can be used for testing materials of any thickness up to 0.55 inch (14 mm).

• ASTM D2513-04a (2004) “Standard Specification for Thermoplastic Gas Pressure Pipe, Tubing, and Fittings”

Current incorporated editions: 1987 edition for marking; 1999 edition for all other purposes

Referenced by 49 CFR 192.191(b); 192.281(b)(2); 192.283(a)(1)(i); Item I, Appendix B to part 192

The adoption of ASTM D2513-04a, the 2004 edition, will replace the current split reference to D2513-87 for pipe marking purposes only and to D2513-1999 for all other purposes. This specification covers requirements and test methods for material dimensions and tolerances, hydrostatic burst strength, chemical resistance, and impact resistance of plastic pipe, tubing, and fittings for use in fuel gas mains and services for direct burial and reliner applications. The annexes provide specific requirements and test methods for each of the materials currently approved. The pipe and fittings covered by this specification are intended for use in the distribution of natural gas. Requirements for the qualifying of polyethylene systems for use with liquefied petroleum gas are covered in Annex A1 of the standard.

• ASTM D2517-00e1 (2000) “Standard Specification for Reinforced Epoxy Resin Gas Pressure Pipe and Fittings”

Replaces current ibr: 2000 edition

Referenced by 49 CFR 192.191(a); 192.281(d)(1); 192.283(a)(1)(ii); Item I, Appendix B to part 192

This specification covers requirements and methods of test for materials, dimensions and tolerances, hydrostatic-burst strength, chemical resistance, and longitudinal tensile properties, for reinforced epoxy resin pipe and fittings for use in gas mains and services for direct burial and insertion applications. The pipe and fittings covered by this specification are intended for use in the distribution of natural gas, petroleum fuels (propane-air and propane-butane vapor mixtures), manufactured and mixed gases where resistance to gas permeation, toughness, resistance to corrosion, aging, and deterioration from water, gas, and gas additives are required. Methods of marking are also given. Design considerations are discussed in Appendix X1 of the standard.

ASME International (ASME)

• ASME B16.5-2003 (May 2003) “Pipe Flanges and Flanged Fittings”

Replaces current ibr: 1996 edition

Referenced by 49 CFR 192.147(a); 192.279

This standard covers pressure-temperature ratings, materials, dimensions, tolerances, marking, testing, and methods of designating openings for pipe flanges and flanged fittings. Included are: Flanges with rating class designations 150, 300, 400, 600, 900, 1500, and 2500 in sizes NPS ½ through NPS 24. This standard is limited to flanges and flanged fittings made from cast or forged materials, and blind flanges and certain reducing flanges made from cast, forged, or plate materials.

• ASME B31G-1991 (R-2004) “Manual for Determining the Remaining Strength of Corroded Pipelines”

Replaces current ibr: 1991 edition

Referenced by 49 CFR 192.485(c); 192.933(a); 195.452(h)(4)(i)(B); 195.452(h)(4)(iii)(D)

This manual includes all pipelines that are covered by the ASME B31 pressure piping codes, i.e., ASME B31.4 (hazardous liquids); ASME B31.8 (gases); and ASME B31.11 (slurries). This manual is applicable only to determining the remaining strength of existing pipelines. New pipeline construction is covered under the applicable B31 codes.

• ASME B16.9-2003 (Feb. 2003) “Factory-Made Wrought Steel Butt Welding Fittings”

Replaces current ibr: 1993 edition

Referenced by 49 CFR 195.118(a)

This standard covers overall dimensions, tolerances, ratings, testing, and markings for wrought carbon and alloy steel factory-made butt welding fittings of NPS ½ through 48. It does not cover low-pressure, corrosion-resistant butt welding fittings.

• ASME B31.4-2002 (Oct. 2002) “Pipeline Transportation Systems for Liquid Hydrocarbons and Other Liquids”

Replaces current ibr: 1998 edition

Referenced by 49 CFR 195.452(h)(4)(i)

This code prescribes requirements for the design, materials, construction, assembly, inspection, and testing of piping transporting liquids between producers' lease facilities, tank farms, natural gas processing plants, refineries, stations, ammonia plants, terminals (marine, rail and truck) and other delivery and receiving points.

• ASME B31.8-2003 (March 2003) “Gas Transmission and Distribution Piping Systems”

Replaces current ibr: 1995 edition

Referenced by 49 CFR 192.619(a)(1)(i). 195.5(a)(1)(i); 195.406(a)(1)(i)

This code covers the design, fabrication, installation, inspection, testing, and safety aspects of operation and maintenance of gas transmission and distribution systems, including gas pipelines, gas compressor stations, gas metering, regulation stations, gas mains, and service lines up to the outlet of the customers' meter set assembly.

• ASME B31.8S-2004 (Jan. 2005) “Supplement to B31.8 on Managing System Integrity of Gas Pipelines”

Replaces current ibr: 2002 edition

Referenced by 49 CFR 192.903(c); 192.907(b); 192.911 Introductory text; 192.911(i); 192.911(k); 192.911(l); 192.911(m); 192.913(a) Introductory text; 192.913(b)(1); 192.917(a) Introductory text; 192.917(b); 192.917(c); 192.917(e)(1); 192.917(e)(4); 192.921(a)(1); 192.923(b)(2); 192.923(b)(3); 192.925(b) Introductory text; 192.925(b)(1); 192.925(b)(2); 192.925(b)(3); 192.925(b)(4); 192.927(b); 192.927(c)(1)(i); 192.929(b)(1); 192.929(b)(2); 192.933(a); 192.933(d)(1); 192.933(d)(1)(i); 192.935(a); 192.935(b)(1)(iv); 192.937(c)(1); 192.939(a)(1)(i); 192.939(a)(1)(ii); 192.939(a)(3); 192.945(a)

This standard applies to on-shore gas pipeline systems constructed with ferrous materials. Pipeline system means all parts of physical facilities through which gas is transported, including pipe, valves, appurtenances attached to pipe, compressor units, metering stations, regulator stations, delivery stations, holders and fabricated assemblies. This standard is designed to provide the operator with the information necessary to develop and implement an effective integrity management program utilizing proven industry practices and processes.

• ASME Boiler and Pressure Vessel Code, Section I, “Rules for Construction of Power Boilers” (2004 edition)

Replaces current ibr: 1998 edition

Referenced by 49 CFR 192.153(a)

This section of the Boiler and Pressure Vessel Code addresses the design, construction, and testing of prefabricated pressure-containing components of pipeline systems.

• ASME Boiler and Pressure Vessel Code, Section VIII, Division 1, “Rules for Construction of Pressure Vessels” (2004 edition)

Replaces current ibr: 1998 edition as referenced in § 193.2321; 2001 edition for all other references

Referenced by 49 CFR 192.153(a); 192.153(b); 192.153(d); 192.165(b)(3); 193.2321; 195.124; 195.307(e)

This division of the Boiler and Pressure Vessel Code, Section VIII contains rules for pressure vessel materials, design, fabrication, examination, inspection, testing, certification, and pressure relief. It includes requirements for pipe, fittings, and above ground breakout tanks that employ circumferential and longitudinal weld seams.

• ASME Boiler and Pressure Vessel Code, Section VIII, Division 2, “Rules for Construction of Pressure Vessels” (2004 edition)

Replaces current ibr: 1998 edition as referenced in § 193.2321; 2001 edition for all other references

Referenced by 49 CFR 192.153(b); 192.165(b)(3); 193.2321; 195.307(e)

This division of the Boiler and Pressure Vessel Code, Section VIII, provides an alternative to the standards of Division 1 and are more restrictive in the choice of materials, but permit higher design stresses subject to more complete examination, testing, and inspection.

• ASME Boiler and Pressure Vessel Code, Section IX, “Welding and Brazing Qualifications” (2004 edition)

Replaces current ibr: 2001 edition

Referenced by 49 CFR 192.227(a); Item II, Appendix B to part 192; 195.222

This section of the Boiler and Pressure Vessel Code establishes qualifications of welders and the procedures employed in welding. It includes qualification of procedures for each type of welding and qualification of welders for specific processes. A welder may be qualified by mechanical bending tests, or by radiography of test or production welds.

Gas Technology Institute (GTI)

• GTI-04/0049 (April 2004) “LNG Vapor Dispersion Prediction with the DEGADIS Dense Gas Dispersion Model”

Replaces current ibr: April 1988-July 1990 edition

Referenced by 49 CFR 193.2059

The Federal regulations on LNG dispersion protection (49 CFR 193.2059) specify DEGADIS as an acceptable means of determining flammable vapor-gas dispersion distances. The program user supplies information on local conditions (e.g., wind speed, temperature, humidity, surface roughness) and on the LNG spills (release rate, source radius). As described in the revised user manual, the DEGADIS program generates a description of the spatial and temporal development of a gas plume resulting from a release of LNG.

Manufacturers Standardization Society of the Valve and Fittings Industry, Inc. (MSS)

• MSS SP-75-2004 “Specification for High Test Wrought Butt Welding Fittings” (1993).

Replaces current ibr: 1993

Referenced by 49 CFR 195.118(a)

This specification cover factory-made, seamless and electric fusion-welded carbon and low-alloy steel, butt-welding fittings for use in high pressure gas and oil transmission pipelines and gas distribution systems, including pipelines, compressor stations, metering and regulating stations, and gas mains. It addresses dimensions, tolerances, ratings, testing, materials, chemical and tensile properties, heat treatment, notch toughness, manufacturing, and marking.

• MSS SP-44-2001 “Steel Pipe Line Flanges”

Replaces current ibr: 1996

Referenced by 49 CFR 192.147(a)

This standard was developed to address the continued use of steel pipe flanges in gas and hazardous liquid pipelines. Line pipe usually employs high-strength, cold worked, thin-wall carbon steel grade pipe, which necessitates special attention to the welding end of the flanges.

NACE International (NACE)

• NACE Standard RP0169-2002 “Control of External Corrosion on Underground or Submerged Metallic Piping Systems”

Replaces current ibr: 1996

Referenced by 49 CFR 195.571

The standard provides criteria for cathodic protection to achieve control of external corrosion on buried or submerged metallic piping systems. It includes information on determining the need for corrosion control; piping system design; coatings; cathodic protection criteria and design; installation of cathodic protection systems; and control of interference currents.

National Fire Protection Association (NFPA)

• NFPA 30 (2003) “Flammable and Combustible Liquids Code”

Replaces current ibr: 1996

Referenced by 49 CFR 192.735(b); 195.264(b)(1)

This standard addresses safety rules for working with and storing flammable and combustible liquids.

NFPA 58 (2004) “Liquefied Petroleum Gas Code (LP-Gas Code)”

Replaces current ibr: 1998

Referenced by 49 CFR 192.11(a); 192.11(b); 192.11(c)

The LPG, or propane, standard provides safety requirements for the design, construction, installation and operation of all LPG systems and storage facilities. This edition includes improved safety and security measure for bulk sites and industrial plants, including clarified requirements for safety valves and operations and maintenance requirements for pipeline and refrigerated storage facilities.

• NFPA 59 (2004) “Standard for the Storage and Handling of Liquefied Petroleum Gases at Utility Gas Plants

Replaces current ibr: 1998

Referenced by 49 CFR 192.11(a); 192.11(b); 192.11(c)

This standard applies to the design, construction, location, installation, operation, and maintenance of refrigerated and non-refrigerated liquefied petroleum gas plants. Coverage of liquefied petroleum gas systems at utility gas plants extends to the point where LPG or a mixture of LPG and air is introduced into the utility distribution system. It addresses refrigerated and non-refrigerated containers, piping, valves, and equipment, structures housing LP-Gas distribution facilities; vaporizers, heat exchangers, and gas-air mixers; relief devices; operations and maintenance; and fire protection, safety, and security.

• NFPA 70 (June 2005) “National Electrical Code”

Replaces current ibr: 1996

Referenced by 49 CFR 192.163(e); 192.189(c)

This code covers all aspects of the installation of electrical facilities, including the electrical wiring in gas pipeline vaults and compressor stations.

Plastics Pipe Institute, Inc. (PPI)

• PPI TR-3/2004 (2004) “Policies and Procedures for Developing Hydrostatic Design Bases (HDB), Pressure Design Bases (PDB), and Minimum Required Strength (MRS) Ratings for Thermoplastic Piping Materials” (PPI TR-3-2000-Part E only, “Policy for Determining Long Term Strength (LTHS) by Temperature Interpolation)”

Replaces current ibr: 2000

Referenced by 49 CFR 192.121

This report presents the updated policies and procedures used by the Hydrostatic Stress Board of the Plastics Pipe Institute to develop recommendations of long-term strength ratings for thermoplastic piping materials and pipe. These recommendations are published in PPI TR-4, “PPI Listing of Hydrostatic Design Basis (HDB), Pressure Design Basis (PDB), Strength Design Basis (SDB), and Minimum Required Strength (MRS) Ratings for Thermoplastic Piping Materials or Pipe”, a regularly updated document.

Rulemaking Analyses

Executive Order 12866

This proposed rule is not a significant regulatory action under section 3(f) of Executive Order 12866 (58 FR 51735) and, therefore, was not subject to review by the Office of Management and Budget (OMB). This proposed rule is not significant under the Regulatory Policies and Procedures of the Department of Transportation (44 FR 11034).

Executive Order 13132

This proposed rule has been analyzed in accordance with the principles and criteria contained in Executive Order 13132 (“Federalism”). This notice does not propose any regulation that:

(1) Has substantial direct effect on the states, the relationship between the national government and the states, or the distribution of power and responsibilities among the various levels of government;

(2) imposes substantial direct compliance costs on state and local governments; or

(3) preempts state law.

Therefore, the consultation and funding requirements of Executive Order 13132 do not apply.

Executive Order 13084

This proposed rule has been analyzed in accordance with the principles and criteria contained in Executive Order 13084, Consultation and Coordination with Indian Tribal Governments. Because the proposed rule would not significantly or uniquely affect the Indian tribal governments, the funding and consultation requirements of Executive Order 13084 do not apply.

Regulatory Flexibility Act

This rulemaking will not impose additional requirements on pipeline operators, including small entities that operate regulated pipelines. Rather, the proposed rule only incorporates the most recent editions of voluntary consensus standards that represent the current best practice in pipeline technology. Incorporating the most recent editions of these standards does not impose additional costs on small or large gas pipelines, hazardous liquid pipelines, or liquefied natural gas companies, and may reduce costs by contributing to even safer pipeline operations. Based on the facts available about the expected impact of this rulemaking, I certify, under Section 605 of the Regulatory Flexibility Act (5 U.S.C. 605), that this rulemaking will not have a significant economic impact on a substantial number of small entities.

National Environmental Policy Act

We have analyzed the proposed rule changes for purposes of the National Environmental Policy Act (42 U.S.C. 4321 et seq.). Because the adoption of the latest standards moves pipeline construction, operations, and maintenance toward current best practices, we have preliminarily determined that the proposed changes would not significantly affect the quality of the human environment.

Paperwork Reduction Act

This proposed rule does not impose any new or revised information collection requirements.

Unfunded Mandates Reform Act of 1995

This proposed rule does not impose unfunded mandates under the Unfunded Mandates Reform Act of 1995. It does not result in costs of $100 million or more to either State, local, or tribal governments, in the aggregate, or to the private sector, and is the least burdensome alternative that achieves the objective of the proposed rule.

List of Subjects

49 CFR Part 192

Incorporation by reference, Natural gas, Pipeline safety.

49 CFR Part 193

Incorporation by reference, Liquefied natural gas, Pipeline safety.

49 CFR Part 195

Anhydrous ammonia, Carbon dioxide, Incorporation by reference, Petroleum, Pipeline safety.

In consideration of the foregoing, PHMSA proposes to amend 49 CFR Parts 192, 193, and 195 as follows:

PART 192—[AMENDED]

1. The authority citation for part 192 continues to read as follows:

Authority: 49 U.S.C. 5103, 60102, 60104, 60108, 60109, 60110, 60113, and 60118; and 49 CFR 1.53.

2. Paragraph (c) of § 192.7 would be revised to read as follows:

* * * * *

(c) The full titles of documents incorporated by reference, in whole or in part, are provided herein. The numbers in parentheses indicate applicable editions. For each incorporated document, citations of all affected sections are provided. Earlier editions of currently listed documents or editions of documents listed in previous editions of 49 CFR Part 192 may be used for materials and components designed, manufactured, or installed in accordance with these earlier documents at the time they were listed. The user must refer to the appropriate previous edition of 49 CFR Part 192 for a listing of the earlier listed editions or documents.

(1) Incorporated by reference (ibr).

List of Organizations and Addresses.

(i) Pipeline Research Council International, Inc. (PRCI), c/o Technical Toolboxes, 3801 Kirby Drive, Suite 520, Houston, TX 77098.

(ii) American Petroleum Institute (API), 1220 L Street, NW., Washington, DC 20005.

(iii) American Society for Testing and Materials (ASTM), 100 Barr Harbor Drive, West Conshohocken, PA 19428.

(iv) ASME International (ASME), Three Park Avenue, New York, NY 10016-5990.

(v) Manufacturers Standardization Society of the Valve and Fittings Industry, Inc. (MSS), 127 Park Street, NE., Vienna, VA 22180.

(vi) National Fire Protection Association (NFPA), 1 Batterymarch Park, P.O. Box 9101, Quincy, MA 02269-9101.

(vii) Plastics Pipe Institute, Inc. (PPI), 1825 Connecticut Avenue, NW., Suite 680, Washington, DC 20009.

(viii) NACE International (NACE), 1440 South Creek Drive, Houston, TX 77084.

(ix) Gas Technology Institute (GTI), 1700 South Mount Prospect Road, Des Plaines, IL 60018.

(2) Documents incorporated by reference

Source and name of referenced material | 49 CFR reference
A. Pipeline Research Council International (PRCI):
(1) AGA Pipeline Research Committee, Project PR-3-805, “A Modified Criterion for Evaluating the Remaining Strength of Corroded Pipe” (December 22, 1989). The RSTRENG program may be used for calculating remaining strength | §§ 192.933(a); 192.485(c).
B. American Petroleum Institute (API):
(1) API Specification 5L “Specification for Line Pipe” (API 5L, 43rd edition, 2004) | §§ 192.55(e); 192.113; Item I of Appendix B.
(2) API Recommended Practice 5L1 “Recommended Practice for Railroad Transportation of Line Pipe” (6th edition, 2002) | § 192.65(a).
(3) API Specification 6D “Specification for Pipeline Valves (Gate, Plug, Ball, and Check Valves)” (22nd edition, 2002 including Supplement 11/04) | § 192.145(a).
(4) API 1104 “Welding of Pipelines and Related Facilities” (19th edition, 1999 including Errata October 31, 2001) | §§ 192.227(a); 192.229(c)(1); 192.241(c); Item II, Appendix B.
(5) API Recommended Practice 1162 “Public Awareness Programs for Pipeline Operators” (1st edition, December 2003) | §§ 192.616(a): 192.616(b); 192.616(c).
C. American Society for Testing and Materials (ASTM):
(1) ASTM A53/A53M-04a (2004) “Standard Specification for Pipe, Steel, Black and Hot-Dipped, Zinc-Coated, Welded and Seamless” | §§ 192.113; Item I, Appendix B.
(2) ASTM A106/A106M-04b (2004) “Standard Specification for Seamless Carbon Steel Pipe for High-Temperature Service” | § 192.113; Item I, Appendix B.
(3) ASTM A333/A333M-04a (2004) “Standard Specification for Seamless and Welded Steel Pipe for Low-Temperature Service” | § 192.113; Item I, Appendix B.
(4) ASTM A372/A372M-03 “Standard Specification for Carbon and Alloy Steel Forgings for Thin-Walled Pressure Vessels” | § 192.177(b)(1).
(5) ASTM A381-96 (2001) “Standard Specification for Metal-Arc-Welded Steel Pipe for Use With High-Pressure Transmission Systems” | § 192.113; Item I, Appendix B.
(6) ASTM A671-04 (2004) “Standard Specification for Electric-Fusion-Welded Steel Pipe for Atmospheric and Lower Temperatures” | § 192.113; Item I, Appendix B.
(7) ASTM A672-96 (2001) “Standard Specification for Electric-Fusion-Welded Steel Pipe for High-Pressure Service at Moderate Temperatures” | § 192.113; Item I, Appendix B.
(8) ASTM A691-98 (2002) “Standard Specification for Carbon and Alloy Steel Pipe, Electric-Fusion-Welded for High-Pressure Service at High Temperatures” | § 192.113; Item I, Appendix B.
(9) ASTM D638-03 (2003) “Standard Test Method for Tensile Properties of Plastics” (ASTM D638-1999) | §§ 192.283(a)(3); 192.283(b)(1).
(10) ASTM D2513-04a “Standard Specification for Thermoplastic Gas Pressure Pipe, Tubing, and Fittings” | §§ 192.63(a)(1); 192.191(b); 192.281(b)(2); 192.283(a)(1)(i); Item 1, Appendix B.
(11) ASTM D2517-00e1 (2000) “Standard Specification for Reinforced Epoxy Resin Gas Pressure Pipe and Fittings” | §§ 192.191(a); 192.281(d)(1); 192.283(a)(1)(ii); Item I, Appendix B.
(12) ASTM F1055-1998 “Standard Specification for Electrofusion type Polyethylene Fittings for Outside Diameter Controller Polyethylene Pipe and Tubing” | § 192.283(a)(1)(iiii).
D. ASME International (ASME):
(1) ASME B16.1 “Cast Iron Pipe Flanges and Flanged Fittings” | § 192.147(c).
(2) ASME B16.5-2003 “Pipe Flanges and Flanged Fittings” | §§ 192.147(a); 192.279.
(3) ASME B31G-1991 (R-2004) “Manual for Determining the Remaining Strength of Corroded Pipelines” | §§ 192.485(c); 192.933(a).
(4) ASME B31.8-2003 “Gas Transmission and Distribution Piping Systems” | § 192.619(a)(1)(i);
(5) ASME B31.8S-2004 “Supplement to B31.8 on Managing System Integrity of Gas Pipelines” | §§ 192.903(c); 192.907(b); 192.911, Introductory text; 192.911(i); 192.911(k); 192.911(l); 192.911(m); 192.913(a) Introductory text; 192.913(b)(1); 192.917(a) Introductory text; 192.917(b); 192.917(c); 192.917(e)(1); 192.917(e)(4); 192.921(a)(1); 192.923(b)(2); 192.923(b)(3); 192.925(b) Introductory text; 192.925(b)(1); 192.925(b)(2); 192.925(b)(3); 192.925(b)(4); 192.927(b); 192.927(c)(1)(i); 192.929(b)(1); 192.929(b)(2); 192.933(a); 192.933(d)(1); 192.933(d)(1)(i); 192.935(a); 192.935(b)(1)(iv); 192.937(c)(1); 192.939(a)(1)(i); 192.939(a)(1)(ii); 192.939(a)(3); 192.945(a).
(6) ASME Boiler and Pressure Vessel Code, Section I, “Rules for Construction of Power Boilers” (ASME Section I-2004) | § 192.153(a).
(7) ASME Boiler and Pressure Vessel Code, Section VIII, Division 1, “Rules for Construction of Pressure Vessels” (ASME Section VIII Division 1-2004) | §§ 192.153(a); 192.153(b); 192.153(d); 192.165(b)(3).
(8) ASME Boiler and Pressure Vessel Code, Section VIII, Division 2, “Rules for Construction of Pressure Vessels: Alternative Rules” (ASME Section VIII Division 2-2004) | §§ 192.153(b); 192.165(b)(3).
(9) ASME Boiler and Pressure Vessel Code, Section IX, “Welding and Brazing Qualifications” (ASME Section IX-2004) | § 192.227(a); Item II, Appendix B.
E. Manufacturers Standardization Society of the Valve and Fittings Industry, Inc. (MSS): | § 192.147(a).
(1) MSS SP44-2001 “Steel Pipe Line Flanges”
(2) [Reserved]
F. National Fire Protection Association (NFPA):
(1) NFPA 30 “Flammable and Combustible Liquids Code” (NFPA 30-2003) | § 192.735(b).
(2) NFPA 58 “Liquefied Petroleum Gas Code (LP-Gas Code)” (NFPA 58-2004) | §§ 192.11(a); 192.11(b); 192.11(c).
(3) NFPA 59 “Standard for the Storage and Handling of Liquefied Petroleum Gases at Utility Gas Plants” (NFPA 59-2004) | §§ 192.163(e); 192.189(c).
(4) NFPA 70 “National Electrical Code” (NFPA 70-2005)
G. Plastics Pipe Institute, Inc. (PPI):
(1) PPI TR-3/2004 “Policies and Procedures for Developing Hydrostatic Design Bases (HDB), Pressure Design Bases (PDB), and Minimum Required Strength (MRS) Ratings for Thermoplastic Piping Materials” (PPI TR-3-2000-Part E only, “Policy for Determining Long Term Strength (LTHS) by Temperature Interpolation”) | § 192.121.
H. NACE International (NACE):
(1) NACE Standard RP0502-2002 “Pipeline External Corrosion Direct Assessment Methodology” | §§ 192.923(b)(1); 192.925(b) Introductory text; 192.925(b)(1); 192.925(b)(1)(ii); 192.925(b)(2) Introductory text; 192.925(b)(3) Introductory text; 192.925(b)(3)(ii); 192.925(b)(iv); 192.925(b)(4) Introductory text; 192.925(b)(4)(ii); 192.931(d); 192.935(b)(1)(iv); 192.939(a)(2).
I. Gas Technology Institute (GTI):
(1) GRI 02/0057 “Internal Corrosion Direct Assessment of Gas Transmission Pipelines_Methodology” (2002) | § 192.927(c)(2).

3. Section I of Appendix B to Part 192 would be revised to read as follows:

Appendix B to Part 192—Qualification of Pipe

I. Listed Pipe Specifications

API 5L—Steel pipe, “API Specification for Line Pipe” (ibr, see § 192.7)

ASTM A53/A53M—Steel pipe, “Standard Specification for Pipe, Steel Black and Hot-Dipped, Zinc-Coated, Welded and Seamless” (ibr, see § 192.7).

ASTM A106—Steel pipe, “Standard Specification for Seamless Carbon Steel Pipe for High Temperature Service” (ibr, see § 192.7).

ASTM A333/A333M—Steel pipe, “Standard Specification for Seamless and Welded Steel Pipe for Low Temperature Service” (ibr, see § 192.7).

ASTM A381—Steel pipe, “Standard Specification for Metal-Arc-Welded Steel Pipe for Use with High-Pressure Transmission Systems” (ibr, see § 192.7).

ASTM A671—Steel pipe, “Standard Specification for Electric-Fusion-Welded Pipe for Atmospheric and Lower Temperatures” (ibr, see § 192.7).

ASTM A672—Steel pipe, “Standard Specification for Electric-Fusion-Welded Steel Pipe for High-Pressure Service at Moderate Temperatures” (ibr, see § 192.7).

ASTM A691—Steel pipe, “Standard Specification for Carbon and Alloy Steel Pipe, Electric-Fusion-Welded for High Pressure Service at High Temperatures” (ibr, see § 192.7).

ASTM D2513—Thermoplastic pipe and tubing, “Standard Specification for Thermoplastic Gas Pressure Pipe, Tubing, and Fittings” (ibr, see § 192.7).

ASTM D2517—Thermosetting plastic pipe and tubing, “Standard Specification for Reinforced Epoxy Resin Gas Pressure Pipe and Fittings” (ibr, see § 192.7).

* * * * *

PART 193—[AMENDED]

1. The authority citation for part 193 continues to read as follows:

Authority: 49 U.S.C. 5103, 60102, 60103, 60104, 60108, 60109, 60110, 60113, 60118; and 49 CFR 1.53

2. Section 193.2013 would be revised to read as follows:

193.2013 Matter incorporated by reference.

(a) Any document or portion thereof incorporated by reference in this part is included in this part as though it were printed in full. When only a portion of a document is referenced, then this part incorporates only that referenced portion of the document and the remainder is not incorporated. Applicable editions are listed in paragraph (c) of this section in parentheses following the title of the referenced material. Earlier editions listed in previous editions of this section may be used for components manufactured, designed, or installed in accordance with those earlier editions at the time they were listed. The user must refer to the appropriate previous edition of 49 CFR for a listing of the earlier editions.

(b) All incorporated materials are available for inspection in the Pipeline and Hazardous Materials Safety Administration, 400 Seventh Street, SW., Washington, DC, or at the National Archives and Records Administration (NARA). For information on the availability of this material at NARA, call 202-741-6030, or go to: http://www.archives.gov/federal_register/code_of_federal_regulations/ibr_locations.html. Documents incorporated by reference are available from the publishers as follows:

(1) American Gas Association (AGA), 400 North Capitol Street, NW, Washington, DC 20001.

(2) American Society of Civil Engineers (ASCE), Parallel Centre, 1801 Alexander Bell Drive, Reston, VA 20191-4400.

(3) ASME International (ASME), Three Park Avenue, New York, NY 10016-5990.

(4) Gas Technology Institute (GTI), 1700 S. Mount Prospect Road, Des Plaines, IL 60018.

(5) National Fire Protection Association (NFPA), 1 Batterymarch Park, P.O. Box 9101, Quincy, MA 02269-9101.

(c) Documents incorporated by reference.

Source and name of referenced material | 49 CFR reference
A. American Gas Association (AGA):
(1) “Purging Principles and Practices” (3rd edition, 2001) | §§ 193.2512; 193.2517; 193.2615.
B. American Society of Civil Engineers (ASCE):
(1) SEI/ASCE 7-02 “Minimum Design Loads for Buildings and Other Structures” (2002) | § 193.2067.
C. ASME International (ASME):
(1) ASME Boiler and Pressure Vessel Code, Section VIII, Division 1, “Rules for Construction of Pressure Vessels” (ASME Section VIII Division 1-2004) | § 193.2321.
(2) ASME Boiler and Pressure Vessel Code, Section VIII, Division 2, “Rules for Construction of Pressure Vessels: Alternative Rules” (ASME Section VIII Division 2-2004) | § 193.2321.
D. Gas Technology Institute (GTI):
(1) GRI-89/0176 “LNGFIRE: A Thermal Radiation Model for LNG Fires” (January 29, 1990) | § 193.2057.
(2) GTI-04/0049 “LNG Vapor Dispersion Prediction with the DEGADIS Dense Gas Dispersion Model” (April 2004) | § 193.2059.
(3) GRI-96/0396.5 “Evaluation of Mitigation Methods for Accidental LNG Releases, Volume 5: Using FEM3A for LNG Accident Consequence Analyses” (April 1997) | § 193.2059.
E. National Fire Protection Association (NFPA):
(1) NFPA 59A “Standard for the Production, Storage, and Handling of Liquefied Natural Gas (LNG)” (2001) | §§ 193.2019; 193.2051; 193.2057; 193.2059; 193.2101; 193.2301; 193.2303; 193.2401; 193.2521; 193.2639; 193.2801.

PART 195—[AMENDED]

1. The authority citation for part 195 continues to read as follows:

Authority: 49 U.S.C. 5103, 60102, 60104, 60108, 60109, 60118; and 49 CFR 1.53

2. Section 195.3 would be amended by revising the last sentence of paragraph (b) introductory text, paragraphs (b)(1) through (7), and (c) to read as follows:

§ 195.3 Incorporation by reference.

* * * * *

(b) * * * Documents incorporated by reference are available from the publishers as follows:

(1) Pipeline Research Council International, Inc. (PRCI), c/o Technical Toolboxes, 3801 Kirby Drive, Suite 520, Houston, TX 77098.

(2) American Petroleum Institute (API), 1220 L Street, NW, Washington, DC 20005.

(3) ASME International (ASME), Three Park Avenue, New York, NY 10016-5990.

(4) Manufacturers Standardization Society of the Valve and Fittings Industry, Inc. (MSS), 127 Park Street, NE, Vienna, VA 22180.

(5) American Society for Testing and Materials (ASTM), 100 Barr Harbor Drive, West Conshohocken, PA 19428.

(6) National Fire Protection Association (NFPA), 1 Batterymarch Park, P.O. Box 9101, Quincy, MA 02269-9101.

(7) NACE International, 1440 South Creek Drive, Houston, TX 77084.

(c) The full titles of publications incorporated by reference wholly or partially in this part are as follows. Numbers in parentheses indicate applicable editions:

Source and name of referenced material | 49 CFR reference
A. Pipeline Research Council International, Inc. (PRCI):
(1) AGA Pipeline Research Committee, Project PR-3-805, “A Modified Criterion for Evaluating the Remaining Strength of Corroded Pipe” (December 22, 1989). The RSTRENG program may be used for calculating remaining strength | § 195.452(h)(4)(B).
B. American Petroleum Institute (API):
(1) API Specification 5L “Specification for Line Pipe” (43rd edition, 2004) | §§ 195.106(b)(1)(i); 195.106(e).
(2) API Specification 6D “Specification for Pipeline Valves (Gate, Plug, Ball, and Check Valves)” (22nd edition, 2002 including Supplement 11/04) | § 195.116(d).
(3) API Specification 12F “Specification for Shop Welded Tanks for Storage of Production Liquids” (11th edition, 1994 as reaffirmed 5/02) | §§ 195.132(b)(1); 195.205(b)(2); 195.264(b)(1); 195.264(e)(1); 195.307(a); 195.565; 195.579(d).
(4) API 510 “Pressure Vessel Inspection Code: Maintenance Inspection, Rating, Repair, and Alteration” (8th edition, 1997 incl. Addenda 1-4) | §§ 195.205(b)(3); 195.432(c).
(5) API Standard 620 “Design and Construction of Large, Welded, Low-Pressure Storage Tanks” (10th edition, 2002) | §§ 195.132(b)(2); 195.205(b)(2); 195.264(b)(1); 195.264(e)(3); 195.307(b).
(6) API 650 “Welded Steel Tanks for Oil Storage” (10th edition, 1998 including Addenda 1-3) | §§ 195.132(b)(3); 195.205(b)(1); 195.264(b)(1); 195.264(e)(2); 195.307(c); 195.307(d); 195.565; 195.579(d).
(7) API Recommended Practice 651 “Cathodic Protection of Aboveground Petroleum Storage Tanks” (2nd edition, December 1997) | §§ 195.565; 195.579(d).
(8) API Recommended Practice 652 “Lining of Aboveground Petroleum Storage Tank Bottoms” (2nd edition, December 1997) | § 195.579(d).
(9) API Standard 653 “Tank Inspection, Repair, Alteration, and Reconstruction” (3rd edition, 2001 including Addendum 1) | §§ 195.205(b)(1); 195.432(b).
(10) API 1104 “Welding of Pipelines and Related Facilities” (19th edition, 1999 including Errata October 31, 2001) | §§ 195.222; 195.228(b).
(11) API Standard 2000 “Venting Atmospheric and Low-Pressure Storage Tanks” (4th edition, September 1992) | §§ 195.264(e)(2); 195.264(e)(3).
(12) API 1130 “Computational Pipeline Monitoring” (2nd edition, 2002) | §§ 195.134; 195.444.
(13) API Recommended Practice 2003 “Protection Against Ignitions Arising Out of Static, Lightning, and Stray Currents” (6th edition, 1998) | § 195.405(a).
(14) API Publication 2026 “Safe Access/Egress Involving Floating Roofs of Storage Tanks in Petroleum Service” (2nd edition, 1998) | § 195.405(b).
(15) API Recommended Practice 2350 “Overfill Protection for Storage Tanks In Petroleum Facilities”” (2nd edition, 1996) | § 195.428(c)
(16) API Standard 2510 “Design and Construction of LPG Installations” (8th edition, 2004) | §§ 195.132(b)(3); 195.205(b)(3); 195.264(b)(2); 195.264(e)(4); 195.307(e); 195.428(c); 195.432(c).
(17) API Recommended Practice 1162 “Public Awareness Programs for Pipeline Operators” (1st edition, December 2003) | §§ 195.440(a); 195.440(b); 195.440(c).
C. ASME International (ASME):
(1) ASME B16.9-2003 “Factory-Made Wrought Steel Butt Welding Fittings” | § 195.118(a).
(2) ASME B31.4-2002 “Pipeline Transportation Systems for Liquid Hydrocarbons and Other Liquids” | § 195.452(h)(4)(i).
(3) ASME B31G-1991 (R-2004) “Manual for Determining the Remaining Strength of Corroded Pipelines” | §§ 195.452(h)(4)(i)(B); 195.452(h)(4)(iii)(D).
(4) ASME B31.8-2003 “Gas Transmission and Distribution Piping Systems” | § 195.5(a)(1)(i); 195.406(a)(1)(i).
(5) ASME Boiler and Pressure Vessel Code, Section VIII, Division 1 “Rules for Construction of Pressure Vessels,” (2004 edition) | § 195.124; 195.307(e).
(6) ASME Boiler and Pressure Vessel Code, Section VIII, Division 2 “Alternate Rules for Construction for Pressure Vessels” (2004 edition) | § 195.307(e).
(7) ASME Boiler and Pressure Vessel Code, Section IX “Welding and Brazing Qualifications,” (2004 edition) | § 195.222.
D. Manufacturers Standardization Society of the Valve and Fittings Industry, Inc. (MSS):
(1) MSS SP-75-2004 “Specification for High Test Wrought Butt Welding Fittings” | § 195.118(a).
(2) [Reserved]
E. American Society for Testing and Materials (ASTM):
(1) ASTM A53/A53M-04a (2004) “Standard Specification for Pipe, Steel, Black and Hot-Dipped, Zinc-Coated Welded and Seamless” | § 195.106(e).
(2) ASTM A106/A106M-04b (2004) “Standard Specification for Seamless Carbon Steel Pipe for High-Temperature Service” | § 195.106(e).
(3) ASTM A 333/A 333M-04a (2004) “Standard Specification for Seamless and Welded Steel Pipe for Low-Temperature Service” | § 195.106(e).
(4) ASTM A 381-96 (2001) “Standard Specification for Metal-Arc-Welded Steel Pipe for Use With High-Pressure Transmission Systems” | § 195.106(e).
(5) ASTM A 671-04 (2004) “Standard Specification for Electric-Fusion-Welded Steel Pipe for Atmospheric and Lower Temperatures” | § 195.106(e).
(6) ASTM A 672-96 (2001) “Standard Specification for Electric-Fusion-Welded Steel Pipe for High-Pressure Service at Moderate Temperatures” | § 195.106(e).
(7) ASTM A 691-98 (2002) “Standard Specification for Carbon and Alloy Steel Pipe Electric-Fusion-Welded for High-Pressure Service at High Temperatures” | § 195.106(e).
F. National Fire Protection Association (NFPA):
(1) NFPA 30 (2003) “Flammable and Combustible Liquids Code” | § 195.264(b)(1).
(2) [Reserved]
G. NACE International (NACE):
(1) NACE Standard RP0169-2002 “Control of External Corrosion on Underground or Submerged Metallic Piping Systems” | § 195.571.
(2) Reserved

Issued in Washington, DC on July 11, 2005.
Theodore L. Willke,
Deputy Associate Administrator for Pipeline Safety.

[FR Doc. 05-14003 Filed 7-15-05; 8:45 am]

BILLING CODE 4910-60-P